DEPARTMENT OF HEALTH AND HUMAN SERVICES

Centers for Disease Control and Prevention

[Program Announcement 04053]

Practices To Improve Training Skills of Home Visitors; Notice of Availability of Funds-Amendment

A notice announcing the availability of fiscal year (FY) 2004 funds for cooperative agreement to conduct a systematic examination of the impact of home visitor training and factors related to the implementation of an existing efficacious or effective home visiting program on family outcomes of child maltreatment and risk behaviors for youth violence was published in the Federal Register on December 1, 2003, Volume 68, Number 230, pages 67171-67176. The notice is amended as follows: On page 67176, Column 1, Line 4, in the first paragraph after “AR-25” requirement, delete “$250,000” and replace with “$500,000.”

Dated: December 19, 2003.
Edward Schultz,
Acting Director, Procurement and Grants Office, Centers for Disease Control and Prevention.

[FR Doc. 03-31834 Filed 12-29-03; 8:45 am]

BILLING CODE 4163-18-P